DEPARTMENT OF TRANSPORTATION

Federal Railroad Administration

Petition for Waiver of Compliance

In accordance with part 211 of Title 49 Code of Federal Regulations (CFR), notice is hereby given that the Federal Railroad Administration (FRA) received a request for a waiver of compliance with certain requirements of its safety standards. The individual petition is described below, including the party seeking relief, the regulatory provisions involved, the nature of the relief being requested, and the petitioner's arguments in favor of relief.

Long Island Rail Road

[Waiver Petition Docket Number FRA-2010-0090]

The Long Island Rail Road (LIRR) seeks a waiver of compliance with the Locomotive Safety Standards, 49 CFR 229.129(b)(2), which requires that the sound level of locomotives manufactured before September 18, 2006, have their horns tested before June 24, 2010; and 49 CFR 229.129(c), which prescribes the testing requirements for testing locomotive horns.

LIRR operates 836 M-7 MU passenger cars of which 84 have had their horns tested; and 170 M-3 MU passenger cars of which 60 have had their horns tested. In addition, LIRR operates 80 diesel electric locomotives of which 7 horns have been tested; and 23 control car locomotives of which 2 horns have been tested.

LIRR cites the previous winters (2009 and 2010) climatic conditions for failure to complete the required horn testing. LIRR is requesting an additional 6-month extension to complete the testing. Because of the constraints of their maintenance facilities, LIRR is also requesting that they be allowed to utilize an alternate testing standard. LIRR would do reference sample testing of locomotive horns as required in 49 CFR 229.129(c), and use the test results from the reference tests to develop an alternative test plan.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number 2010-0090) and may be submitted by any of the following methods:

• Web site: http://www.regulations.gov. Follow the online instructions for submitting comments.

• Fax: 202-493-2251.

• Mail: Docket Operations Facility, U.S. Department of Transportation, 1200 New Jersey Avenue, SE., W12-140, Washington, DC 20590.

• Hand Delivery: 1200 New Jersey Avenue, SE., Room W12-140, Washington, DC 20590, between 9 a.m. and 5 p.m., Monday through Friday, except Federal Holidays.

Communications received within 30 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://www.regulations.gov.

Anyone is able to search the electronic form of any written communications and comments received into any of our dockets by the name of the individual submitting the comment (or signing the comment, if submitted on behalf of an association, business, labor union, etc.). You may review DOT's complete Privacy Act Statement in the Federal Register published on April 11, 2000 (Volume 65, Number 70; Pages 19477-78).

Issued in Washington, DC on May 24, 2010.
Grady C. Cothen, Jr.,
Deputy Associate Administrator for Safety Standards and Program Development.

[FR Doc. 2010-12880 Filed 5-27-10; 8:45 am]

BILLING CODE 4910-06-P